DEPARTMENT OF AGRICULTURE

Forest Service

Plumas National Forest, Feather River Ranger District, California, Watdog Project

AGENCY: Forest Service, USDA.

ACTION: Notice of intent to prepare an environmental impact statement.

SUMMARY: The Forest Service will prepare an environmental impact statement on a proposal to construct approximately 24 miles of defensible fuel profile zones (DFPZs), harvest trees from approximately 260 acres using group selection silviculture methods, and perform associated road-system improvements within the pilot project area defined in the Herger-Feinstein Quincy Library Group Forest Recovery Act, October 1998 (HFQLGFRA). The purpose of this project is to reduce the potential size of wildfires, provide fire suppression personnel safe locations for taking action against wildfires, achieve an all-aged, multi-story, fire-resilient forest, and provide an adequate timber supply that contributes to the economic health of rural communities as directed in the HFQLGFRA and Sierra Nevada Forest Plan Amendment, January 2004.

DATES: Comments concerning the scope of the analysis must be received within 30 days of the publication of this notice in the Federal Register. The draft environmental impact statement is expected by April, 2005 and the final environmental impact statement is expected by July, 2005.

ADDRESSES: Send written comments concerning this notice to James M. Peña, Forest Supervisor, Plumas National Forest, P.O. Box 11500, 159 Lawrence Street, Quincy, CA 95971. Submit electronic comments to comments-pacificsouthwest-plumas@fs.fed.us. See SUPPLEMENTARY INFORMATION for file formats and other information about filing comments.

FOR FURTHER INFORMATION CONTACT: Katherine Worn, Project Leader, Feather River Ranger District, 875 Mitchell Avenue, Oroville, CA 95965, or call (530) 534-6500.

SUPPLEMENTARY INFORMATION: The project area is approximately 6,300 acres and is entirely located within Plumas County, California. It is generally situated between Feather Falls to the west, Little Grass Valley Reservoir to the east, Table Mountain to the north, and Frey Creek to the south. Proposed DFPXZ are located primarily on Hartman and Watson Ridges and include a portion of the north and east ends of Lumpkin Ridge, an area around Camel Peak, and an area near Jackson Ranch. Group selection units are distributed throughout the DFPZs and in some adjacent areas. The area ranges in elevation from approximately 3,000 to 6,200 feet above mean sea level. The legal description of the project area is as follows: Township (T) 21N, Range (R) 6E, portions of Sections 12, 13, 14, 22, 23, and 25; T21N, R7E, portions of Sections 5, 6, 7, 8 and 18; T21N, R8E, portions of Sections 2, 3, and 5; T21N, R9E, portions of Section 19 and 30; T22N, R7E, portions of Sections 13, 14, 23, 24, 26, 27, 32, 33, and 34; and T22N, R8E, portions of Sections 10, 11, 13, 14, 15, 17, 18, 19, 24, 25, 26,27, 28, 29, 33, 34, 35, and 36, Mount Diablo Base and Meridian.

Purpose and Need for Action

Resource specialists examined the project area to determine the existing condition and to identify opportunities and specific management practices that could be implemented to accomplish management direction and goals described in the Plumas National Forest Land and Resource Management Plan, August 1988, as amended by the August 1999 Record of Decision for the HFQLGFRA, as well as the recent Sierra Nevada Framework Forest Plan Amendment of January 2004, which amended the Sierra Nevada Framework Forest Plan Amendment of January 2001. Within the project area, treatment is needed to reduce the potential size of wildfires, provide fire suppression personnel safe locations for taking action against wildfires, achieve an all-aged, multi-story, fire-resilient forest, and provide an adequate timber supply that contributes to the economic health of rural communities. The purpose of the Watdog project is to meet those needs by constructing DFPZs and implementing group selection silvicultural system as directed in the HFQLGFRA and Sierra Nevada Forest Plan Amendment 2004 Record of Decision.

Proposed Action

The Forest Service proposes to construct approximately 24 miles of DFPZs averaging ¼ mile in width with a total treatment area of approximately 4,000 acres. A DFPZ is a strategically located strip of land on which fuels, both living and dead, have been modified in order to reduce the potential for sustained crown fire and to allow fire suppression personnel a safer location from which to take action against a wildfire. Proposed DFPZs are located primarily on Hartman and Watson Ridges and include a portion of the north and east ends of Lumpkin Ridge, an area around Camel Peak, and an area near Jackson Ranch.

Group selection timber harvest would be conducted in 172 groups covering approximately 260 acres within and near the DFPZ treatment units. Group selection involves harvest of trees up to 30-inches in diameter from small (less than two acres) areas, resulting in uneven-aged (all-aged) forests made up of a patchwork of small groups of same-aged trees.

Responsible Official

James M. Peña, Forest Supervisor, P.O. Box 11500, 159 Lawrence Street, Quincy, CA 95971, is the Responsible Official.

Nature of Decision To Be Made

The Forest Service must decide whether it will implement this proposal, an alternative design that moves the area towards the desired condition, or not to implement any project at this time.

Scoping Process

In October of 2002, the Watdog DFPZ Project was included in the Plumas National Forest's Schedule of Proposed Action, which was posted on the Plumas National Forest's internet website and mailed to interested parties. The proposal was to construct approximately 25 miles of DFPZs. A public field trip to units in proposed DFPZs was held on October 30, 2002. In March of 2003, a scoping letter for the Watdog DFPZ Project was mailed to interested and affected tribes, individuals, organizations, and Federal, State, and local agencies with responsibilities for local resource management. A Legal Notice announcing the start of the scoping process was published in the Oroville Mercury-Register on March 4, 2003.

In December of 2004, a revised proposed action was mailed to 93 individuals, groups, organizations, tribes, and Federal, State, and local agencies. The scoping letter was sent to those who expressed interest in the proposal, those who owned property or held mining claims in and adjacent to the project area, and to agencies with responsibilities for local resource management. The revised proposal called for the construction of approximately 24 miles of DFPZs and timber harvesting using group selection on approximately 260 acres. A Legal Notice announcing the start of the scoping process was published in the Feather River Bulletin on December 7, 2004. Six comments were received during the 30-day comment period.

After evaluating responses to the December 2004 scoping period, the Forest Service has decided to prepare an environmental impact statement (EIS) for the Watdog project. This notice of intent invites additional public comment on this proposal and initiates the preparation of the environmental impact statement. The proposal has not been changed since scoping in December 2004. Comments submitted at that time will be used in the environmental analysis process. Due to the extensive scoping efforts already conducted, no scoping meeting is planned.

The scoping process will include identification of potential issues, in depth analysis of significant issues, development of alternatives to the proposed action, and determination of potential environmental effects of the proposal and alternatives. While public participation in this analysis is welcome at any time, comments received within 30 days of the publication of this notice will be especially useful in the preparation of the draft environmental impact statement. The public is encouraged to take part in the planning process and to visit with Forest Service officials at any time during the analysis and prior to the decision.

Addresses

Comments may be: (1) Mailed to the Responsible Official; (2) hand delivered between the hours of 8 a.m.-4:30 p.m. weekdays Pacific Time; (3) faxed to (530) 283-7746; or (4) electronically mailed to: comments-pacificsouthwest-plumas@fs.fed.us. Comments submitted electronically must be in Rich Text Format (.rtf).

Comment Requested

This notice of intent initiates the scoping process which guides the development of the environmental impact statement. Comments submitted during the December 2004 scoping period will be used in the environmental analysis process. Those who submitted comments at that time do not need to comment again, unless they have new comments they would like to provide. The public is encouraged to take part in the process and is encouraged to visit with Forest Service officials at any time during the analysis and prior to the decision. The Forest Service will be seeking information, comments, and assistance from Federal, State, and local agencies and other individuals or organizations that may be interested in, or affected by, the proposed vegetation management activities.

Early Notice of Importance of Public Participation in Subsequent Environmental Review

A draft environmental impact statement will be prepared for comment. The comment period on the draft environmental impact statement will be forty-five days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the forty-five day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21

Dated: February 3, 2005.
Terri Simon-Jackson,
Acting Forest Supervisor.

[FR Doc. 05-2607 Filed 2-9-05; 8:45 am]

BILLING CODE 3410-11-M